DEPARTMENT OF TRANSPORTATION

Federal Aviation Administration

14 CFR Part 39

[Docket No. 2001-NM-328-AD; Amendment 39-13266; AD 2003-16-13]

RIN 2120-AA64

Airworthiness Directives; Bombardier Model CL-600-2B19 (Regional Jet Series 100 & 440) Airplanes

AGENCY: Federal Aviation Administration, DOT.

ACTION: Final rule.

SUMMARY: This amendment adopts a new airworthiness directive (AD), applicable to certain Bombardier Model CL-600-2B19 (Regional Jet Series 100 & 440) airplanes, that requires installing new vent tube assemblies for the main fuel tanks; and, on certain airplanes, inspecting to measure the clearance between the vent system tubing and the applicable wing ribs, and corrective action if necessary. This action is necessary to prevent a fire hazard due to fuel spillage. This action is intended to address the identified unsafe condition.

DATES: Effective September 22, 2003.

The incorporation by reference of certain publications listed in the regulations is approved by the Director of the Federal Register as of September 22, 2003.

ADDRESSES: The service information referenced in this AD may be obtained from Bombardier, Inc., Canadair, Aerospace Group, P.O. Box 6087, Station Centre-ville, Montreal, Quebec H3C 3G9, Canada. This information may be examined at the Federal Aviation Administration (FAA), Transport Airplane Directorate, Rules Docket, 1601 Lind Avenue, SW., Renton, Washington; or at the FAA, New York Aircraft Certification Office, 10 Fifth Street, Third Floor, Valley Stream, New York; or at the Office of the Federal Register, 800 North Capitol Street, NW., Suite 700, Washington, DC.

FOR FURTHER INFORMATION CONTACT: James Delisio, Aerospace Engineer, Airframe and Propulsion Branch, ANE-171, FAA, New York Aircraft Certification Office, 10 Fifth Street, Third Floor, Valley Stream, New York 11581; telephone (516) 256-7521; fax (516) 568-2716.

SUPPLEMENTARY INFORMATION: A proposal to amend part 39 of the Federal Aviation Regulations (14 CFR part 39) to include an airworthiness directive (AD) that is applicable to certain Bombardier Model CL-600-2B19 (Regional Jet Series 100 & 440) airplanes was published in the Federal Register on June 18, 2003 (68 FR 36513). That action proposed to require installing new vent tube assemblies for the main fuel tanks; and, on certain airplanes, inspecting to measure the clearance between the vent system tubing and the applicable wing ribs, and corrective action if necessary.

Comments

Interested persons have been afforded an opportunity to participate in the making of this amendment. No comments were submitted in response to the proposal or the FAA's determination of the cost to the public.

Conclusion

The FAA has determined that air safety and the public interest require the adoption of the rule as proposed.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

The FAA estimates that the installation will be required to be accomplished on 45 Model CL-600-2B19 (Regional Jet Series 100 & 440) airplanes of U.S. registry. It will take approximately 15 work hours per airplane to accomplish the installation at an average labor rate of $65 per work hour. Required parts will cost approximately $10,273 per airplane. Based on these figures, the cost impact of the installation on U.S. operators is estimated to be $506,160, or $11,248 per airplane.

The FAA estimates that the inspection will be required to be accomplished on 43 Model CL-600-2B19 (Regional Jet Series 100 & 440) airplanes of U.S. registry. It will take approximately 1 work hour per airplane to accomplish the inspection at an average labor rate of $65 per work hour. Based on these figures, the cost impact of the inspection on U.S. operators is estimated to be $2,795, or $65 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-16-13 Bombardier, Inc. (Formerly Canadair): Amendment 39-13266. Docket 2001-NM-328-AD.

Applicability: Model CL-600-2B19 (Regional Jet Series 100 & 440) airplanes having serial numbers 7003 through 7067 inclusive and 7069 through 7109 inclusive, certificated in any category; excluding those airplanes on which the actions specified in Bombardier Service Bulletin 601R-28-024, dated May 21, 1996, have been accomplished. (This applicability includes airplanes informally identified as “Series 200.”)

Compliance: Required as indicated, unless accomplished previously.

To prevent a fire hazard in the main fuel tanks due to fuel spillage, accomplish the following:

Installation

(a) Within 180 days after the effective date of this AD, install new vent tube assemblies for the main fuel tanks, per Part A of paragraph 2.B. of the Accomplishment Instructions of Bombardier Service Bulletin 601R-28-024, Revision “A”, dated November 11, 1998.

Inspection and Corrective Action

(b) For airplanes having serial numbers 7003 through 7035 inclusive, and 7048 through 7057 inclusive: Before further flight after installing the vent tube assemblies as required by paragraph (a) of this AD, perform a general visual inspection to measure the clearance between the vent system tubing and the applicable wing rib, per Part B of paragraph 2.B. of the Accomplishment Instructions of Bombardier Service Bulletin 601R-28-024, Revision “A,” dated November 11, 1998.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) If the clearance between the vent system tubing and the applicable wing rib is 0.125 inch or more, no further action is required by this paragraph.

(2) If the clearance between the vent system tubing and the applicable wing rib is less than 0.125 inch, prior to further flight, install the bracket assemblies per paragraphs 2.B.(8) through 2.B.(10) of the Accomplishment Instructions of the service bulletin.

Alternative Methods of Compliance

(c) In accordance with 14 CFR 39.19, the Manager, New York Aircraft Certification Office (ACO), FAA, is authorized to approve alternative methods of compliance for this AD.

Incorporation by Reference

(d) The actions shall be done in accordance with Bombardier Service Bulletin 601R-28-024, Revision “A,” dated November 11, 1998. This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., Suite 700, Washington, DC.

Note 2: The subject of this AD is addressed in Canadian airworthiness directive CF-2001-31, dated August 7, 2001.

Effective Date

(e) This amendment becomes effective on September 22, 2003.

Issued in Renton, Washington, on August 7, 2003.
Neil D. Schalekamp,
Acting Manager, Transport Airplane Directorate, Aircraft Certification Service.

[FR Doc. 03-20711 Filed 8-15-03; 8:45 am]

BILLING CODE 4910-13-P